DEPARTMENT OF HEALTH AND HUMAN SERVICES

National Institutes of Health

Center for Scientific Review; Amended Notice of Meeting

Notice is hereby given of a change in the meeting of the Center for Scientific Review Special Emphasis Panel, March 7, 2011, 8 a.m. to March 8, 2011, 8 p.m., National Institutes of Health, 6701 Rockledge Drive, Bethesda, MD 20892 which was published in the Federal Register on February 4, 2011, 76 FR 6486-6487.

The meeting will be held March 1, 2011 to March 2, 2011. The meeting time and location remain the same. The meeting is closed to the public.

Dated: February 11, 2011.
Jennifer S. Spaeth,
Director, Office of Federal Advisory Committee Policy.

[FR Doc. 2011-3632 Filed 2-16-11; 8:45 am]

BILLING CODE 4140-01-P